COMMODITY FUTURES TRADING COMMISSION

Global Markets Advisory Committee

AGENCY: Commodity Futures Trading Commission.

ACTION: Notice of meeting.

SUMMARY: The Commodity Futures Trading Commission (CFTC) announces that on April 15, 2019, from 10:00 a.m. to 4:00 p.m., the Global Markets Advisory Committee (GMAC) will hold a public meeting in the Conference Center at the CFTC's headquarters in Washington, DC. At this meeting, the GMAC will hear presentations on how regulators are fulfilling a 2009 G20 directive regarding the OTC derivatives market.

DATES: The meeting will be held on April 15, 2019, from 10:00 a.m. to 4:00 p.m. Members of the public who wish to submit written statements in connection with the meeting should submit them by April 22, 2019.

ADDRESSES: The meeting will take place in the Conference Center at the CFTC's headquarters, Three Lafayette Centre, 1155 21st Street NW, Washington, DC 20581. You may submit public comments, identified by “Global Markets Advisory Committee,” by any of the following methods:

• CFTC Comments Portal: https://comments.cftc.gov. Select the “Submit Comments” link for this meeting notice and follow the instructions on the Public Comment Form.

• Mail: Send to Christopher Kirkpatrick, Secretary of the Commission, Commodity Futures Trading Commission, Three Lafayette Center, 1155 21st Street NW, Washington, DC 20581.

• Hand Delivery/Courier: Follow the same instructions as for Mail, above.

Please submit your comments using only one of these methods. Submissions through the CFTC Comments Portal are encouraged. Any statements submitted in connection with the committee meeting will be made available to the public, including by publication on the CFTC website, https://www.cftc.gov.

FOR FURTHER INFORMATION CONTACT: Andrée Goldsmith, GMAC Designated Federal Officer, Commodity Futures Trading Commission, Three Lafayette Centre, 1155 21st Street NW, Washington, DC 20581; (202) 418-6624.

SUPPLEMENTARY INFORMATION: At this meeting, the GMAC will hear presentations on how regulators are fulfilling the 2009 G20 directive “to assess regularly implementation and whether it is sufficient to improve transparency in the derivatives markets, mitigate systemic risk, and protect against market abuse.” Specifically, the GMAC will examine the status of the four key pillars of the original G20 directive regarding the OTC derivatives market: (1) Trading on exchanges or electronic trading platforms; (2) clearing through central counterparties; (3) margin requirements for non-centrally cleared derivatives; and (4) data reporting to trade repositories.

The meeting will be open to the public with seating on a first-come, first-served basis. Members of the public may also listen to the meeting by telephone by calling a domestic toll-free telephone or international toll or toll-free number to connect to a live, listen-only audio feed. Call-in participants should be prepared to provide their first name, last name, and affiliation.

Domestic Toll Free: 1-877-951-7311.

International Toll and Toll Free: Will be posted on the CFTC's website, https://www.cftc.gov, on the page for the meeting, under Related Links.

Pass Code/Pin Code: 2665194.

The meeting agenda may change to accommodate other GMAC priorities. For agenda updates, please visit the GMAC committee website at: https://www.cftc.gov/About/CFTCCommittees/GlobalMarketsAdvisory/gmac_meetings.html.

After the meeting, a transcript of the meeting will be published through a link on the CFTC's website at: https://www.cftc.gov. All written submissions provided to the CFTC in any form will also be published on the CFTC's website. Persons requiring special accommodations to attend the meeting because of a disability should notify the contact person above.

Authority: 5 U.S.C. app. 2, sec. 10(a)(2).

Dated: March 11, 2019.
Christopher J. Kirkpatrick,
Secretary of the Commission.

[FR Doc. 2019-04741 Filed 3-13-19; 8:45 am]

BILLING CODE 6351-01-P